DEPARTMENT OF COMMERCE

National Institute of Standards and Technology

National Construction Safety Team Advisory Committee Meeting

AGENCY: National Institute of Standards and Technology, Department of Commerce.

ACTION: Notice of open meeting.

SUMMARY: The National Construction Safety Team (NCST) Advisory Committee (Committee) will hold an open in-person meeting on Friday, September 6, 2019, from 8:30 a.m. to 5:00 p.m. Eastern Time. The primary purposes of this meeting are to update the Committee on the progress of the NCST technical investigation to study building failures and emergency response and evacuation during Hurricane Maria, which made landfall in the U.S. territory of Puerto Rico on September 20, 2017, and the implementation of recommendations from previous NCST investigations, including the Joplin tornado investigation. The agenda may change to accommodate Committee business. The final agenda will be posted on the NIST website at https://www.nist.gov/topics/disaster-failure-studies/national-construction-safety-team-ncst/advisory-committee.

DATES: The NCST Advisory Committee will meet on Friday, September 6, 2019, from 8:30 a.m. until 5:00 p.m. Eastern Time.

ADDRESSES: The meeting will be held in person in the Portrait Room of Building 101, NIST, 100 Bureau Drive, Gaithersburg, Maryland 20899. For instructions on how to participate in the meeting, please see the SUPPLEMENTARY INFORMATION section of this notice.

FOR FURTHER INFORMATION CONTACT: Benjamin Davis, Management and Program Analyst, Disaster and Failure Studies Program, Engineering Laboratory, NIST, 100 Bureau Drive, Mail Stop 8615, Gaithersburg, Maryland 20899-8604. Benjamin Davis' email address is Benjamin.Davis@nist.gov; and his phone number is (301) 975-6071.

SUPPLEMENTARY INFORMATION: The Committee was established pursuant to Section 11 of the NCST Act (Pub. L. 107-231, codified at 15 U.S.C. 7301 et seq.). The Committee is currently composed of six members, appointed by the Director of NIST, who were selected on the basis of established records of distinguished service in their professional community and their knowledge of issues affecting the National Construction Safety Teams. The Committee advises the Director of NIST on carrying out the NCST Act; reviews the procedures developed for conducting investigations; and reviews the reports issued documenting investigations. Background information on the NCST Act and information on the NCST Advisory Committee is available at https://www.nist.gov/topics/disaster-failure-studies/national-construction-safety-team-ncst/advisory-committee.

Pursuant to the Federal Advisory Committee Act, as amended, 5 U.S.C. App., notice is hereby given that the NCST Advisory Committee will meet on Friday, September 6, 2019, from 8:30 a.m. until 5:00 p.m. Eastern Time. The meeting will be open to the public. The meeting will be held in person in the Portrait Room of Building 101, NIST, 100 Bureau Drive, Gaithersburg, Maryland 20899. The primary purposes of this meeting are to update the Committee on the progress of the NCST technical investigation to study building failures and emergency response and evacuation during Hurricane Maria, which made landfall in the U.S. territory of Puerto Rico on September 20, 2017, and the implementation of recommendations from previous NCST investigations, including the Joplin tornado investigation. The agenda may change to accommodate Committee business. The final agenda will be posted on the NIST website at https://www.nist.gov/topics/disaster-failure-studies/national-construction-safety-team-ncst/advisory-committee-meetings.

Individuals and representatives of organizations who would like to offer comments and suggestions related to items on the Committee's agenda for this meeting are invited to request a place on the agenda. Approximately fifteen minutes will be reserved near the conclusion of the meeting for public comments and speaking times will be assigned on a first-come, first-served basis. Public comments can be provided in person or by teleconference attendance. The amount of time per speaker will be determined by the number of requests received, but is likely to be three minutes each. Questions from the public will not be considered during this period. All those wishing to speak must submit their request by email to the attention of Benjamin Davis at Benjamin.Davis@nist.gov, by 5:00 p.m. Eastern Time, Friday, August 23, 2019.

Speakers who wish to expand upon their oral statements, those who wish to speak but cannot be accommodated on the agenda, and those who are unable to attend are invited to submit written statements to the NCST, National Institute of Standards and Technology, 100 Bureau Drive, MS 8604, Gaithersburg, Maryland 20899-8604, or electronically by email to Benjamin.Davis@nist.gov.

All visitors to the NIST site are required to pre-register to be admitted. Anyone wishing to attend this meeting in person must register by 5:00 p.m. Eastern Time, Friday, August 9, 2019, to attend. Please submit your full name, email address, and phone number to Benjamin Davis at Benjamin.Davis@nist.gov; his phone number is (301) 975-8912. Non-U.S. citizens must submit additional information; please contact Mr. Davis. For participants attending in person, please note that federal agencies, including NIST, can only accept a state-issued driver's license or identification card for access to federal facilities if such license or identification card is issued by a state that is compliant with the REAL ID Act of 2005 (Pub. L. 109-13), or by a state that has an extension for REAL ID compliance. NIST currently accepts other forms of federal-issued identification in lieu of a state-issued driver's license. For detailed information, please visit: http://www.nist.gov/public_affairs/visitor/.

Kevin A. Kimball,
Chief of Staff.

[FR Doc. 2019-16234 Filed 7-30-19; 8:45 am]

BILLING CODE 3510-13-P